SECURITIES AND EXCHANGE COMMISSION

Submission for OMB Review; Comment Request

Upon Written Request, Copies Available From: Securities and Exchange Commission Office of Filings and Information Services Washington, DC 20549

Extension

Rule 17f-1(c), SEC File No. 270-28, OMB Control No. 3235-0032

Rule 17f-1(c) and Form X-17F-1A, SEC File No. 270-29, OMB Control No. 3235-0037

Rules 17h-1T and 17h-2T, SEC File No. 270-359, OMB Control No. 3235-0410

Notice is hereby given that pursuant to the Paperwork Reduction Act of 1995 (44 U.S.C. 3501 et seq.) the Securities and Exchange Commission (“Commission”) has submitted to the Office of Management and Budget requests for extension of the previously approved collections of information discussed below.

Rule 17f-1(b) requires approximately 1,150 entities in the securities industry to register in the Lost and Stolen Securities Program. Registration fulfills a statutory requirement that entities report and inquire about missing, lost, counterfeit, or stolen securities. Registration also allows entities in the securities industry to gain access to a confidential database that stores information for the program.

It is estimated that 1,150 entities will register in the Lost and Stolen Securities Program annually. It is also estimated that each respondent will register one time. The staff estimates that the average number of hours necessary to comply with the Rule 17f-1(b) is one-half hour. The total burden is 575 hours annually for respondents, based upon past submissions. The average cost per hour is approximately $50. Therefore, the total cost of compliance for respondents is $28,750.

Rule 17f-1(b) is a reporting rule and does not specify a retention period. The rule requires a one-time registration for reporting institutions. Registering under Rule 17f-1(b) is mandatory to obtain the benefit of a central database that stores information about missing, lost, counterfeit, or stolen securities for the Lost and Stolen Securities Program. Reporting institutions required to register under Rule 17f-(b) will not be kept confidential, however, the Lost and Stolen Securities Program database will be kept confidential.

Rule 17f-1(c) and Form X-17F-1A requires approximately 23,000 entities in the securities industry to report lost, stolen, missing, or counterfeit securities to a central database. Form X-17F-1A facilitates the accurate reporting and precise and immediate data entry into the central database. Reporting to the central database fulfills a statutory requirement that reporting institutions report and inquire about missing, lost, counterfeit, or stolen securities. Reporting to the central database also allows reporting institutions to gain access to the database that stores information for the Lost and Stolen Securities Program.

It is estimated that 23,000 reporting institutions will report that securities are either missing, lost, counterfeit, or stolen annually. It is also estimated that each reporting institution will submit this report 56 times each year. The staff estimates that the average amount of time necessary to comply with Rule 17f-1(c) and Form X-17F-1A is five minutes. The total burden is 107,333 hours annually for respondents, based upon past submissions. The average cost per hour is approximately $50. Therefore, the total cost of compliance for respondents is $5,366,666.

Rule 17f-1(c) is a reporting rule and does not specify a retention period. The rule requires an incident-based reporting requirement by the reporting institutions when securities are discovered missing, lost, counterfeit, or stolen. Registering under Rule 17f-1(c) is mandatory to obtain the benefit of a central database that stores information about missing, lost, counterfeit, or stolen securities for the Lost and Stolen Securities Program. Reporting institutions required to register under Rule 17f-1(c) will not be kept confidential, however, the Lost and Stolen Securities Program database will be kept confidential.

Rule 17h-1T requires a broker-dealer to maintain and preserve records and other information concerning certain entities that are associated with the broker-dealer. This requirement extends to the financial and securities activities of the holding company, affiliates and subsidiaries of the broker-dealer that are reasonably likely to have a material impact on the financial or operational condition of the broker-dealer. Rule 17h-2T requires a broker-dealer to file with the Commission quarterly reports and a cumulative year-end report concerning the information required to be maintained and preserved under Rule 17h-1T.

The collection of information required by Rules 17h-1T and 17h-2T are necessary to enable the Commission to monitor the activities of a broker-dealer affiliate whose business activities are reasonably likely to have a material impact on the financial and operational condition of the broker-dealer. Without this information, the Commission would be unable to asses the potentially damaging impact of the affiliate's activities on the broker-dealer.

There are currently 215 respondents that must comply with Rules 17h-1T and 17h-2T. Each of these 215 respondents require approximately 10 hours per year, or 2.5 hours per quarter, to maintain the records required under Rule 17h-1T, for an aggregate annual burden of 2,150 hours (215 respondents × 10 hours). In addition, each of these 215 respondents must make five annual response under Rule 17h-2T. These five responses require approximately 14 hours per responder per year, or 3.5 hours per quarter, for an aggregate annual burden of 3,010 hours (215 respondents × 14 hours). In addition, there are approximately seven new respondents per year, which must draft an organizational chart required under Rule 17h-1T and establish a system for complying with the rules. The staff estimates that drafting the required organizational chart requires one hour and establishing a system for complying with the rules requires three hours, thus requiring an aggregate of 28 hours (7 new respondents × 4 hours). The total compliance burden per year is approximately 5,188 burden hours (2,150 + 3,010 + 28).

Rule 17h-1T specifies that the records required to be maintained under the rule must be preserved for a period of not less than three years. There is no specific retention period or record keeping requirement for Rule 17h-2T. The collection of information is mandatory and the information required to be provided to the Commission pursuant to these rules are deemed confidential, notwithstanding any other provision of law under Section 17(h)(5) of the Securities Exchange Act of 1934 (15 U.S.C. 78a(h)(5)) and Section 552(b)(3)(B) of the Freedom of Information Act (15 U.S.C. 552(b)(3)(B)).

An agency may not conduct or sponsor, and a person is not required to respond to, a collection of information unless its displays a currently valid control number.

Written comments regarding the above information should be directed to the following persons: (i) Desk Office for the Securities and Exchange Commission, Office of Information and Regulatory Affairs, Office of Management and Budget, Room 10102, New Executive Office Building, Washington, DC 20503; and (ii) Michael E. Bartell, Associate Executive Directive, Office of Information Technology, Securities and Exchange Commission, 450 Fifth Street, NW, Washington, DC 20549.

Dated: June 26, 2000.
Margaret H. McFarland.
Deputy Secretary.

[FR Doc. 00-16742 Filed 6-30-00; 8:45 am]

BILLING CODE 8010-01-M